NUCLEAR REGULATORY COMMISSION

[Docket No. 70-27]

Notice of Issuance of Renewed License, BWX Technologies, Inc., Lynchburg, VA

AGENCY: Nuclear Regulatory Commission.

ACTION: Notice of issuance of license.

FOR FURTHER INFORMATION CONTACT: Billy Gleaves, Project Manager, Fuel Manufacturing Branch, Division of Fuel Cycle Safety and Safeguards, Office of Nuclear Material Safety and Safeguards, U.S. Nuclear Regulatory Commission (NRC), Mail Stop T-8F42, Washington, DC 20555, telephone: (301) 415-5848; fax number (301) 415-5955; e-mail: bcg@nrc.gov.

SUPPLEMENTARY INFORMATION:

I. Introduction

Pursuant to 10 CFR 2.106, the NRC is providing notice of issuance of Materials License SNM-42 to BWX Technologies, Inc., (the licensee), to authorize continuing operation of the licensee's Mt. Athos facility in Lynchburg, Virginia. The licensee's request for the renewal of its license was previously noticed in the Federal Register on March 6, 2006 (71 FR 11231), with a notice of opportunity to request a hearing that was open for 60 days. No requests for a hearing were received during the 60-day period. The associated Environmental Assessment and Finding of No Significant Impact was published in the Federal Register on March 31, 2006.

This renewed license complies with standards and requirements of the Atomic Energy Act of 1954, as amended, and NRC's regulations as set forth in 10 CFR Chapter I. Accordingly, the renewed license was issued on March 29, 2007 and was effective immediately.

II. Further Information

The NRC prepared a Safety and Safeguards Evaluation Report that documented the information reviewed, including NRC's conclusion. The Safety and Safeguards Evaluation Report and other related documents contain sensitive, unclassified security information, and is therefore deemed Official Use Only and will not be placed in the Public Document Room or the Publicly Available Records component of the NRC's Agencywide Documents Access and Management System (ADAMS) document system.

Dated at Rockville, Maryland, this 29th day of March 2007.
For the Nuclear Regulatory Commission.
Gary S. Janosko,
Deputy Director, Fuel Facility Licensing Directorate, Division of Fuel Cycle Safety and Safeguards, Office of Nuclear Material Safety and Safeguards.

[FR Doc. E7-6480 Filed 4-5-07; 8:45 am]

BILLING CODE 7590-01-P